DEPARTMENT OF AGRICULTURE

Agricultural Marketing Service

7 CFR Part 205

[Doc. No. AMS-NOP-11-0063; NOP-11-11PR]

RIN 0581-AD18

National Organic Program; Proposed Amendment to the National List of Allowed and Prohibited Substances (Livestock)

AGENCY: Agricultural Marketing Service, USDA.

ACTION: Proposed rule; correction.

SUMMARY: This document contains a correction to the proposed rule which was published on February 6, 2012 (77 FR 5717). The proposed rule relates to revising the U.S. Department of Agriculture's (USDA) National List of Allowed and Prohibited Substances (National List) to reduce the maximum levels for synthetic methionine currently allowed in organic poultry production after October 1, 2012. This document will remove an incorrect reference to a date in the proposed modification to our regulation.

FOR FURTHER INFORMATION CONTACT: Melissa Bailey, Ph.D., Director, Standards Division, Telephone: (202) 720-3252; Fax: (202) 205-7808.

SUPPLEMENTARY INFORMATION:

Background

On February 6, 2012, the Agricultural Marketing Service published a proposed rule (77 FR 5717) to reduce the maximum levels of synthetic methionine that may be provided to organic poultry after October 1, 2012. This action addressed the recommendation of the National Organic Standards Board to permit the use of synthetic methionine at the following maximum levels per ton of feed after October 1, 2012: laying and broiler chickens—2 pounds; turkeys and all other poultry—3 pounds. As published, the proposed modification to 7 CFR § 205.603(d)(1) contains the date “October 2, 1012.” This is an incorrect reference to a date and therefore should not be included in the proposed regulatory language. This document corrects the regulatory language of the proposed rule.

1. On page 5721, in the second column, § 205.603 paragraph (d)(1) is corrected to read as follows:

§ 205.603 Synthetic substances allowed for use in organic livestock production.

* * * * *

(d) * * *

(1) DL-Methionine, DL-Methionine—hydroxy analog, and DL-Methionine—hydroxy analog calcium (CAS #'s 59-51-8, 583-91-5, 4857-44-7, and 922-50-9)—for use only in organic poultry production at the following maximum levels of synthetic methionine per ton of feed: laying and broiler chickens—2 pounds; turkeys and all other poultry—3 pounds.

Dated: February 16, 2012.
Robert C. Keeney,
Acting Administrator, Agricultural Marketing Service.

[FR Doc. 2012-4755 Filed 2-28-12; 8:45 am]

BILLING CODE 3410-02-P